DEPARTMENT OF HEALTH AND HUMAN SERVICES

Food and Drug Administration

[Docket No. FDA-2019-N-3500]

Fit for Use Pilot Program Invitation for the Clinical Data Interchange Standards Consortium for Standard for Exchange of Nonclinical Data Implementation Guide: Version 3.1; Correction

AGENCY: Food and Drug Administration, HHS.

ACTION: Correction.

SUMMARY: The Food and Drug Administration (FDA) is correcting a notice that appeared in the Federal Register of Tuesday, August 20, 2019. The document announced a “Fit for Use Pilot Program Invitation for the Clinical Data Interchange Standards Consortium for Standard for Exchange of Nonclinical Data Implementation Guide: Version 3.1.” The document was published with the incorrect contact name, phone number, and email address in the FOR FURTHER INFORMATION CONTACT section. This document corrects those errors.

FOR FURTHER INFORMATION CONTACT: Jesse Anderson, Office of Computational Science, Center for Drug Evaluation and Research, Food and Drug Administration, 10903 New Hampshire Ave., Silver Spring, MD 20993, 301-348-1816, Jesse.Anderson@fda.hhs.gov.

SUPPLEMENTARY INFORMATION: In FR Doc. 2019-17877, appearing on page 43139, in the Federal Register of Tuesday, August 20, 2019 (84 FR 43139), the following correction is made:

On page 43140, in the first column, in the FOR FURTHER INFORMATION CONTACT section of the document, “Isaac Chang, Office of Computational Science, Center for Drug Evaluation and Research, Food and Drug Administration, 10903 New Hampshire Ave., Silver Spring, MD 20993, 240-4027501, PRAStaff@fda.hhs.gov.” is corrected to read “Jesse Anderson, Office of Computational Science, Center for Drug Evaluation and Research, Food and Drug Administration, 10903 New Hampshire Ave., Silver Spring, MD 20993, 301-348-1816, Jesse.Anderson@fda.hhs.gov.”

Dated: September 30, 2019.
Lowell J. Schiller,
Principal Associate Commissioner for Policy.

[FR Doc. 2019-21784 Filed 10-4-19; 8:45 am]

BILLING CODE 4164-01-P